DEPARTMENT OF TRANSPORTATION

National Highway Traffic Safety Administration

Reports, Forms and Record Keeping Requirements; Agency Information Collection Activity Under OMB Review

AGENCY: National Highway Traffic Safety Administration (NHTSA), U.S. Department of Transportation.

ACTION: Notice and request for comments.

SUMMARY: In compliance with the Paperwork Reduction Act of 1995, this notice announces that the Information Collection Request (ICR) abstracted below has been forwarded to the Office of Management and Budget (OMB) for review and comment. The ICR describes the nature of the information collections and their expected burden. The Federal Register Notice with a 60-day comment period was published on September 8, 2017 (82 FR 42570). The agency received no comments.

DATES: Comments must be submitted on or before January 5, 2018.

ADDRESSES: Send comments, within 30 days, to the Office of Information and Regulatory Affairs, Office of Management and Budget, 725-17th Street NW., Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A comment to OMB is most effective if OMB receives it within 30 days of publication.

FOR FURTHER INFORMATION CONTACT: Wayne McKenzie at the National Highway Traffic Safety Administration, Office of Crash Avoidance Standards, 1200 New Jersey Avenue SE., West Building, Room W43-462, Washington, DC 20590. Mr. McKenzie's telephone number is 202-366-1810.

SUPPLEMENTARY INFORMATION:

National Highway Traffic Safety Administration

Title: 49 CFR Part 564—Replaceable Light Source Dimensional Information Collection.

OMB Number: 2127-0563.

Type of Request: Request for public comment on a previously approved collection of information.

Abstract: The information to be collected is in response to 49 CFR part 564, “Replaceable Light Source Dimensional Information.” Persons desiring to use newly designed replaceable headlamp light sources are required to submit interchangeability and performance specifications to the agency. After a short agency review to assure completeness, the information is placed in a public docket for use by any person who would like to manufacture headlamp light sources for highway motor vehicles. In Federal Motor Vehicle Safety Standard No. 108, Lamps, reflective devices and associated equipment, “Part 564 submissions” are referenced as being the source of information regarding the performance and interchangeability information for legal headlamp light sources, whether original equipment or replacement equipment. The submitted information about headlamp light sources becomes the basis for certification of compliance with safety standards.

NHTSA anticipates approximately 7 bulb manufacturers will be affected by these reporting requirements. NHTSA does not believe that any of these manufacturers are a small business (i.e., one that employs less than 500 persons) since each manufacturer employs more than 500 persons.

Affected Public: Businesses or other profit organizations.

Estimated Total Annual Burden: NHTSA estimates that the manufacturers will incur a total annual reporting hour of 28 hours.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

Authority: Paperwork Reduction Act of 1995, 44 U.S.C. Chapter 35; delegation of authority at 49 CFR 1.95.

Raymond R. Posten,
Associate Administrator for Rulemaking.

[FR Doc. 2017-26235 Filed 12-5-17; 8:45 am]

BILLING CODE 4910-59-P